DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before January 30, 2009.

ADDRESSES: You may submit your comments, identified by “docket number” on the subject line, by any of the following methods:

1. Electronic Mail: Standards-Petitions@dol.gov.

2. Facsimile: 1-202-693-9441.

3. Regular Mail: MSHA, Office of Standards, Regulations, and Variances, 1100 Wilson Boulevard, Room 2350, Arlington, Virginia 22209, Attention: Patricia W. Silvey, Director, Office of Standards, Regulations, and Variances.

4. Hand-Delivery or Courier: MSHA, Office of Standards, Regulations, and Variances, 1100 Wilson Boulevard, Room 2350, Arlington, Virginia 22209, Attention: Patricia W. Silvey, Director, Office of Standards, Regulations, and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations, and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2008-049-C.

Petitioner: Knight Hawk Coal, LLC, 7290 County Line Road, Cutler, Illinois 62238.

Mine: Prairie Eagle SOUTH Underground Mine, MSHA I.D. No. 11-03205 located in Perry County, Illinois.

Regulation Affected: 30 CFR 75.503 (Permissible electric face equipment; maintenance) and 30 CFR 18.35(a)(5) (Portable trailing cables and cords).

Modification Request: The petitioner requests a modification of the existing standard to permit trailing cables supplying power to permissible equipment to be increased to the maximum length for use in continuous mining sections. The petitioner states that: (1) This petition will only apply to trailing cables supplying three-phase, 995-volt power to continuous mining machines and trailing cables supplying three-phase, 480-volt power to roof bolters; (2) the maximum length of the 995-volt continuous mining machine trailing cables will be 950 feet and the maximum length of the 480-volt trailing cables for roof bolters will be 900 feet; (3) the 995-volt continuous mining machine trailing cables will not be smaller than 2/0 and the 480-volt trailing cables for roof bolters will not be smaller than #2 American Wire Gauge (AWG); (4) all circuits breakers used to protect 2/0 trailing cables exceeding 850 feet in length will have instantaneous trip units calibrated to trip at 1,500 amperes; (5) the trip settings of the circuit breakers will be sealed or locked and will have permanent legible labels; and (6) each label will identify the circuit breaker as being suitable for protecting 2/0 cables and the label will be maintained legible. Persons may review a complete description of petitioner's alternative method and procedures at the MSHA address listed in this notice. The petitioner asserts that the proposed alternative method will at all times guarantee no less than the same measure of protection to all miners at the Prairie Eagle SOUTH Underground Mine as would be provided by the mandatory standard.

Docket Number: M-2008-050-C.

Petitioner: River View Coal, LLC, 835 St., Route 1179, Waverley, Kentucky 42462.

Mine: River View, MSHA I.D. No. 15-03178, located in Union County, Kentucky.

Regulation Affected: 30 CFR 75.1700 (Oil and gas wells).

Modification Request: The petitioner requests an alternative method of compliance for leaving barrier pillars around oil and gas wells. The petitioner proposes to mine through oil and gas wells in all mineable coalbeds. The petitioner states that: (1) A safety barrier of 300 feet in diameter (150 feet between any mined area and a well) will be maintained around all oil and gas wells until approval to proceed with mining has been obtained from the District Manager; (2) the minimum safety barrier approved by the District Manager between any mined area and a well will be 70 feet in diameter for an abandoned well, and 100 feet in diameter for an operational well based on the geological nature of the strata and the functionality of the well as found in the mine area; and (3) consummate to the well being located on the surface using high resolution Global Positioning System (GPS), and being tied to the underground traverse with accuracy no less than 1:30,000. Persons may review a complete description of petitioner's alternative method and procedures at the MSHA address listed in this notice. The petitioner asserts that the proposed alternative method will provide a measure of protection to all miners greater than that of the existing standard.

Docket Number: M-2008-051-C.

Petitioner: River View Coal, LLC, 835 St. Rt. 1179, Waverly, Kentucky 42462.

Mine: River View Mine, MSHA I.D. No. 15-03178 located in Union County, Kentucky.

Regulation Affected: 30 CFR 75.503 (Permissible electric face equipment; maintenance) and 30 CFR 18.35 (Portable trailing cables and cords).

Modification Request: The petitioner requests a modification of the existing standard which requires the operator of each coal mine to maintain in permissible condition all electric face equipment required by 30 CFR 75.500, 75.501, and 75.504 to be permissible when taken into or used inby the last open crosscut of any such mine. The petitioner proposes to increase the maximum length of trailing cables supplying power to permissible equipment used in continuous mining sections by using the following methods: (1) The petition will apply only to trailing cables supplying three-phase, 995-volt power to continuous mining machines and to trailing cables supplying three-phase 480-volt power to roof bolters; (2) the maximum length of the 995-volt continuous mining machine trailing cables will be 950 feet and the maximum length of the 480-volt trailing cables for roof bolters will be 900 feet; (3) the 995-volt continuous mining machine trailing cables will not be smaller than 2/0 and the 480-volt trailing cables for roof bolters will not be smaller than #2 American Wire Gauge (AWG); (4) all circuits breakers used to protect 2/0 trailing cables exceeding 850 feet in length will have an instantaneous trip unit calibrated to trip at 1,500 amperes; (5) the trip setting of the circuit breakers will be sealed or locked and will have permanent legible labels; and (6) each label will identify the circuit breaker as being suitable for protecting 2/0 cables and the label will be maintained legible. Persons may review a complete description of petitioner's alternative method and procedures at the MSHA address listed in this notice. The petitioner asserts that the proposed alternative method will at all times guarantee no less than the same measure of protection to all miners at the River View Mine as would be provided by the existing standard.

Docket Number: M-2008-052-C.

Petitioner: Consolidation Coal Company, 1000 CONSOL Energy Drive, Canonsburg, Pennsylvania 15317.

Mine: Blacksville No. 2 Mine, MSHA I.D. No. 46-01968, located in Monongalia County, West Virginia.

Regulation Affected: 30 CFR 75.1700 (Oil and gas wells).

Modification Request: The petitioner requests a modification of the existing standard that requires the operator to establish and maintain barriers around its oil and gas wells. The petitioner proposes to seal the Pittsburgh Coal Seam from the surrounding strata at the affected wells by using technology developed through a successful well-plugging program. The petitioner states that since the inception of the well-plugging program, more than 550 previously abandoned oil and gas wells have been effectively plugged and more than 475 gas and/or petroleum wells have been successfully mined through or around. Persons may review a complete description of petitioner's alternative method and procedures at the MSHA address listed in this notice. The petitioner asserts that the proposed alternative method will provide no less than the same measure of protection to all miners at the Blacksville No. 2 Mine as would be provided by the existing standard.

Docket Number: M-2008-053-C.

Petitioner: Heidtman Mining, LLC, P.O. Box 312, 6451 Happy Valley Road, Hartford, Arkansas 72938.

Mine: Sebastian County Coal Mine, MSHA I.D. No. 03-01736, located in Sebastian County, Arkansas.

Regulation Affected: 30 CFR 75.1700 (Oil and gas wells).

Modification Request: The petitioner requests a modification of the existing standard that requires the operator to establish and maintain barriers around its oil and gas wells that should not be less than 300 feet in diameter. The petitioner states that: (1) This petition is based on the premise that reducing methane in a coal seam prior to mining provides a better and safer environment for miners; (2) it sets forth procedures whereby the petitioner and the miners will have all the advantages of coal degasification procedures and be able to safely approach and decommission each pinnate (drill hole) drilled for degasification when such pinnate lies ahead of mining in progress; (3) the essence of the procedures is to put the entire well system under substantial negative pressure in advance of each intersection to increase the flow of gas from the well, continue the increased level of gas production under vacuum at essentially a constant level, and continually monitor on the surface; (4) the procedure maintains the negative pressure on the well system during the approach to, and intersection with, the pinnate to provide significant safety advantages; (5) the negative pressure will provide a further method of diluting and carrying gas away from the face at the point of intersection, and complements and enhances the gas removal effects of ventilation that sweeps the face; (6) the negative pressure can also serve to drain away a degree of gas concentrations that might otherwise be liberated through latent feeders or bleeders in the seam; (7) the monitoring will be conducted by trained CDX Gas, LLC observers who will specifically look for a significant increase in oxygen, and maintain open telephone communications with the mine to immediately notify the mine of a change in the gas concentrations; (8) when readings on surface monitoring equipment show that the well system under vacuum is producing oxygen, this signals the introduction of mine atmosphere entering the pinnate due to the vacuum effect at the point of intersection; and (9) as soon as the intersection is detected, the mine will be alerted by the surface observers via the open communications line, mining will be brought to a halt in the affected entry and procedures will be initiated to insert a plug to isolate and decommission the intersection pinnate. The petitioner further states that the procedures employed, including CDX Gas, LLC's role are set out in the existing approved ventilation plan. Persons may review a complete description of petitioner's alternative method and procedures at the MSHA address listed in this notice. The petitioner asserts that the alternative method set forth in this petition improves the overall safety of the miners and fully addresses all concerns of the existing standard.

Docket Number: M-2008-005-M.

Petitioner: Lafarge North America, Inc., 1801 California Street, Suite 4900, Denver, Colorado 80202.

Mine: Davenport Plant Mine, MSHA I.D. No. 13-00125, located in Scott County, Iowa.

Regulation Affected: 30 CFR 56.15005 (Safety belts and lines).

Modification Request: The petitioner requests an alternative method of compliance of the existing standard which requires safety belts and lines to be worn when persons work where there is a danger of falling insofar as it applies to the barge unloading area at its Davenport Cement Plant. The petitioner states that: (1) Because of the unique nature of the layout of the barge unloading area and the operations conducted there, construction of a structure necessary to allow for proper fall protection would create serious additional hazards during construction and would also create significant additional hazards during operations; (2) the hazards associated with operations conducted with proper protection against falls into water would result only in hazards associated with prolonged stays in potential cold water; and (3) the measures proposed would alleviate those hazards, resulting in a workplace with safeguards additional to those already in place while avoiding the creation of hazards associated with a fall protection structure. The proposed measures are as follows: (a) New wider tires will be substituted as bumpers to the dock, creating greater clearance such that there will be no danger of anyone hitting the barge on the way down or being crushed or injured by the movement of the barge should they fall; (b) rope or chain ladders as well as ladder attachment points will be installed and provided; (c) lifesaving rings will be provided in the event of a man overboard; (d) water rescue equipment will be maintained and ready for use in the dock area at all times; and (e) each employee working near the water will receive specialized hazard awareness training. The petitioner states that permitting life jackets or belts pursuant to 30 CFR 56.15020 in addition to the proposed measures will provide equal or greater protection than requiring the use of a fall protection system. Persons may review a complete description of petitioner's alternative method and procedures at the MSHA address listed in this notice. The petitioner asserts that application of the existing standard will result in a diminution of safety to the miners and the proposed alternative method will at all times provide no less than the same measure of protection afforded the miners of such mine by such standard.

Dated: December 23, 2008.
Patricia W. Silvey,
Director, Office of Standards, Regulations, and Variances.

[FR Doc. E8-31121 Filed 12-30-08; 8:45 am]

BILLING CODE 4510-43-P